DEPARTMENT OF COMMERCE

International Trade Administration

University of Michigan; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 03-038. Applicant: University of Michigan, Ann Arbor, MI 48109-2150. Instrument: Eye Fixation System, Model faceLAB 3.0. Manufacturer: Seeing Machines, Australia. Intended Use: See notice at 68 FR 48341, August 13, 2003.

Comments: None received. Decision: Approved. No instrument of equivalent scientific value to the foreign instrument, for such purposes as it is intended to be used, is being manufactured in the United States. Reasons: The foreign instrument provides: (1) A completely “off-head” sensor system, (2) precise synchronization with a driving simulator, (3) effective operation in both bright (sunlight) and dim (simulator) environments and (4) superior software for collection and processing of data. A university driving research laboratory advised October 2, 2003 that (1) These capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 03-26679 Filed 10-21-03; 8:45 am]

BILLING CODE 3510-DS-P